CORPORATION FOR NATIONAL AND COMMUNITY SERVICE

Agency Information Collection Activities; Submission to the Office of Management and Budget for Review and Approval; Comment Request; AmeriCorps Program Life Cycle Evaluation—Puerto Rico Bundled Evaluation

AGENCY: Corporation for National and Community Service.

ACTION: Notice of information collection; request for comment.

SUMMARY: The Corporation for National and Community Service, operating as AmeriCorps, has submitted a public information collection request (ICR) entitled AmeriCorps Program Life Cycle Evaluation—Puerto Rico Bundled Evaluation for review and approval in accordance with the Paperwork Reduction Act.

DATES: Written comments must be submitted to the individual and office listed in the ADDRESSES section by August 7, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Dr. Jehyra M. Asencio Yace, 202-956-9736, or by email at jasencioyace@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 26, 2024 at 89 FR 20952, with a comment period ending May 28, 2024. No public comments were received from that Notice.

Title of Collection: AmeriCorps Program Life Cycle Evaluation—Puerto Rico Bundled Evaluation.

OMB Control Number: 3045-NEW. Type of Review: New.

Respondents/Affected Public: Individuals and households (national service members, national service member alumni, community members), businesses and organizations (grantee and sponsor organization project director and staff, partner organization staff, non-supported organizations), and State, local, or Tribal governments (the Puerto Rico service commission staff).

Total Estimated Number of Annual Responses: 697 responses.

Total Estimated Number of Annual Burden Hours: 530 hours.

Abstract: The purpose of this evaluation is to provide insight on the context, implementation, and outcomes of 13 AmeriCorps-supported organizations in Puerto Rico with AmeriCorps State and National formula grants (funded through the Puerto Rico service commission, Comisión de Voluntariado y Servicio Comunitario), as well as those that have both AmeriCorps State and National grants and AmeriCorps VISTA projects. The evaluation will also explore the effectiveness of evaluation capacity-building workshops to be provided to the bundle participants.

AmeriCorps will conduct a 15 month long bundled evaluation of grantees and sponsors in Puerto Rico. Bundling combines programs and projects in a similar place into a single evaluation. The bundled evaluation will use surveys, interviews, and focus groups with a wide range of stakeholders, including grantee and sponsor organization project directors and staff, national service members, national service member alumni, community members, partner organization staff, non-supported organizations, and the Puerto Rico service commission staff. This is a new information collection.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Mary Hyde,
Director, Office of Research and Evaluation.

[FR Doc. 2024-14795 Filed 7-5-24; 8:45 am]

BILLING CODE 6050-28-P